DEPARTMENT OF LABOR

Employment and Training Administration

[TA-W-56,781]

AT&T Corp., AT&T Classic Services, Consumer Services Division, Mesa, AZ; Dismissal of Application for Reconsideration

Pursuant to 29 CFR 90.18(C) an application for administrative reconsideration was filed with the Director of the Division of Trade Adjustment Assistance for workers at AT&T Corp., AT&T Classic Services, Consumer Services Division, Mesa, Arizona. The application contained no new substantial information which would bear importantly on the Department's determination. Therefore, dismissal of the application was issued.

TA-W-56,781; AT&T Corp. AT&T Classic Services Consumer Services Division Mesa, Arizona (July 6, 2005)

Signed at Washington, DC, this 7th day of July, 2005.
Timothy Sullivan,
Director, Division of Trade Adjustment Assistance.

[FR Doc. E5-3760 Filed 7-14-05; 8:45 am]

BILLING CODE 4510-30-P